DEPARTMENT OF THE INTERIOR

Fish and Wildlife Service

Final Environmental Impact Statement for the Stillwater National Wildlife Refuge Complex Comprehensive Conservation Plan and Boundary Revision

ACTION: Notice of availability.

SUMMARY: Pursuant to Section 102(2) of the National Environmental Policy Act of 1969, the U.S. Fish and Wildlife Service (Service) announces the availability of the Final Environmental Impact Statement for the Stillwater National Wildlife Refuge Complex Comprehensive Conservation Plan and Boundary Revision (Final CCP EIS), Churchill and Washoe Counties, Nevada. Five alternatives for management of the Stillwater National Wildlife Refuge Complex, including a no-action alternative, and four alternative boundaries were considered during the planning process.

DATES: A Record of Decision will be signed no sooner than July 1, 2002.

ADDRESSES: The Final CCP EIS is available on the internet via the Fish and Wildlife Service Region 1 Planning Home Page at http://www.r1.fws.gov/planning/plnhome.html. Public reading copies of the Final CCP EIS may be inspected at the following locations: U.S. Fish and Wildlife Service, Division of Planning, Eastside Federal Complex, 911 N.E. 11th Avenue, Portland, Oregon 97232-4181; Stillwater NWR Complex, 1000 Auction Road, Fallon, NV 89406; Churchill County Library, 553 South Main Street, Fallon, NV 89406; Carson City Library, 900 North Roop Street, Carson City, NV 89701; Downtown Reno Library, 301 S. Center Street, Reno, NV 89501. Printed copies have been sent to agencies, organizations, officials, and individuals who participated in the scoping process. A planning update summarizing the CCP EIS and Alternative E has also been mailed to all individuals and organizations on the CCP mailing list (Planning Update #7, July 2001). Individuals wishing to receive a compact disk copy of the Final CCP EIS should immediately contact the Project Leader, Stillwater National Wildlife Refuge Complex, 1000 Auction Road, Fallon, Nevada, 89406, phone (775) 423-5128.

FOR FURTHER INFORMATION CONTACT: Kim Hanson, Project Leader, Stillwater National Wildlife Refuge Complex, at the above address.

SUPPLEMENTARY INFORMATION: The Stillwater National Wildlife Refuge Complex currently includes Stillwater NWR, Stillwater Wildlife Management Area (WMA), Fallon NWR, which are located in west-central Nevada, about six miles northeast of Fallon, Churchill County, and Anaho Island NWR, located about 30 miles northeast of Reno, Nevada, in Washoe County. Stillwater NWR encompasses about 79,570 acres of Federal land, Stillwater WMA about 65,603 acres, and Fallon NWR about 17,848 acres, for a combined total of 163,021 acres of Federal land. Non-Federal inholdings within the approved boundaries are about 59,708 acres. Anaho Island NWR encompasses the entire island, which has fluctuated in size from 220 to 745 acres in recent history due to the fluctuating water levels of Pyramid Lake. During winter of 2001 it was estimated to be 523 acres.

Anaho Island NWR was established in 1913 by Executive Order 1819 as a “ * * * preserve and breeding ground for native birds.” Public Law 101-618 (§ 210(b)(2)) more narrowly defined the purpose of Anaho Island NWR, stating that it was to be managed and administered “ * * * for the benefit and protection of colonial-nesting species and other migratory birds.” The Public Law also recognized that Anaho Island NWR is part of the Pyramid Lake Indian Reservation, but is to be managed and administered by the Service as a component of the National Wildlife Refuge System (Refuge System).

Fallon NWR was established in 1931 by Executive Order 5606 “as a refuge and breeding ground for birds and other wild animals.” It is located at the terminus of the Carson River and encompasses the delta wetlands of the river.

Stillwater WMA and Stillwater NWR were established through a 50-year agreement (Tripartite Agreement) signed in 1948 by the Truckee-Carson Irrigation District, Nevada State Board of Fish and Game Commissioners, and the Service. Although the Tripartite Agreement expired on November 26, 1998, the Service continues to cooperatively manage the Stillwater WMA with the U.S. Bureau of Reclamation under most provisions of the Tripartite Agreement. Stillwater WMA, comprised mainly of U.S. Bureau of Reclamation withdrawn public lands, was established in 1948 for the purposes of conserving and managing wildlife and their habitat, and for public hunting. Stillwater NWR was established in 1949 as a wildlife sanctuary, closed to hunting, adjacent to the public hunting area.

In 1990, the approved boundary of Stillwater NWR was expanded, under subsection 206(b)(1) of the Truckee-Carson-Pyramid Lake Water Rights Settlement Act (Title II of Public Law 101-618), to encompass Stillwater Marsh, most of which was previously in the Stillwater WMA. In addition to the boundary expansion, Public Law 101-618 also outlined four purposes for which the Service must manage Stillwater NWR: (1) Maintaining and restoring natural biological diversity within the refuge; (2) providing for the conservation and management of fish and wildlife and their habitats within the refuge; (3) fulfilling international treaty obligations of the United States with respect to fish and wildlife; and (4) providing opportunities for scientific research, environmental education, and fish and wildlife-oriented recreation.

Each alternative in the Final CCP EIS consists of two main parts: (1) A boundary revision for Stillwater NWR, and (2) the framework of a comprehensive conservation plan, including refuge goals, objectives, and strategies for achieving the purposes for which each refuge was established and for contributing toward the mission of the Refuge System.

Boundary Revision

Public Law 101-618 authorized the Secretary of the Interior (Secretary), to recommend to Congress, boundary revisions to Stillwater NWR that may be appropriate to carry out the purposes of the refuge and to facilitate the protection and enhancement of Lahontan Valley wetland habitat. The law authorized the Secretary to submit to Congress recommendations to revise the boundaries of Stillwater NWR as may be appropriate to carry out the refuge purposes and to recommend the transfer of any Bureau of Reclamation withdrawn public lands within the existing wildlife use areas in the Lahontan Valley to the Service for addition to the Refuge System. Furthermore it authorized the identification of lands in the Lahontan Valley currently under the jurisdiction of the Service that no longer warrant continued status as units of the Refuge System.

Comprehensive Conservation Plan

A comprehensive conservation plan is required by the National Wildlife Refuge System Administration Act of 1966, as amended by the National Wildlife Refuge System Improvement Act of 1997 (16 U.S.C. 6688dd et seq.). The purpose of developing a comprehensive conservation plan for the Stillwater NWR Complex is to provide managers with a 15-year strategy for achieving refuge purposes and contributing toward the mission of the Refuge System, consistent with sound principles of fish and wildlife conservation and legal mandates. In addition to outlining broad management direction on conserving wildlife and their habitat, the comprehensive conservation plan highlights wildlife-dependent recreation opportunities available to the public, including opportunities for hunting, environmental education and interpretation, and wildlife observation and photography.

Development of the Final CCP EIS

Public involvement on the development of this CCP EIS has been by means of open houses, public meetings, work group meetings, agency and Tribal consultation, planning update mailings, and Federal Register notices. Four previous notices were published in the Federal Register concerning this CCP EIS (61 FR 65591, Dec. 13, 1996; 63 FR 39884, July 24, 1998; 64 FR 24168, May 5, 1999; 64 FR 36712, July 7, 1999;).

During the Draft CCP EIS comment period that occurred from April 12 to August 12, 2000, the Service received a total of 56 communications (letters, faxes, postcards, email, visits, or telephone calls). All substantive issues raised in the comments to the Draft CCP EIS have been addressed through revisions to pertinent sections the Final CCP EIS text or in Volume III of the Final CCP EIS.

The Final CCP EIS identifies and provides an evaluation of four alternative boundaries for Stillwater NWR and five alternative management approaches for managing the Stillwater NWR Complex for the next 15 years. The five alternatives considered in detail in the Final CCP EIS are described below. Under all Alternatives, Anaho Island NWR management would remain as it has been, and the Island would be closed to public use.

Alternative A (No Action Alternative) would retain the existing boundaries and entails baseline management as outlined in the 1987 Management Plan for Stillwater WMA and modified by the U.S. Fish and Wildlife Service's (Service's) water rights acquisition program. Water rights acquired for refuge wetlands would continue to be delivered to the refuge according to the traditional agricultural seasonal pattern of delivery in the irrigation district. Habitat management would emphasize breeding habitat for waterfowl and other waterbirds and would also provide for the needs of migrating and wintering waterfowl; livestock grazing and muskrat trapping would be managed commensurate with wildlife objectives on a large part of the area; and hunting would remain the priority public use and would continue to be a coequal purpose with wildlife conservation.

Alternative B would result in the lands within Stillwater WMA reverting back to U.S. Bureau of Reclamation or public land status, thus reducing the amount of Federal land managed primarily for wildlife conservation in the Lahontan Valley. This alternative would focus on providing fall and winter habitat for waterfowl on Stillwater NWR and would emphasize fall deliveries of acquired water rights, but would also provide habitat for breeding waterbirds. Livestock grazing and muskrat trapping would only be used as habitat management tools. Opportunities for waterfowl hunting on Stillwater NWR would continue to be emphasized, although opportunities for wildlife viewing and environmental education would be expanded. Providing breeding habitat for waterbirds would be emphasized on Fallon NWR.

Under Alternative C, Stillwater NWR would be expanded to include most of Stillwater WMA and Fallon NWR, as well as additional riparian and dune habitat. A more thorough description of the boundary revision process for Alternative C is included in the Alternative E discussion (i.e., the proposed boundary for Alternatives C and E are identical). This alternative would emphasize the approximation of natural biological diversity, including breeding habitat for waterbirds. The natural seasonal pattern of water inflow would be approximated, with adjustments to minimize nest flooding and to enhance fall and winter habitat for waterfowl. Livestock grazing would have limited application in the habitat management program, and muskrat trapping would primarily be undertaken to prevent damage to water control structures. Waterfowl hunting would continue to be an integral part of the public use program under Alternative C, but environmental education and wildlife observation would receive considerably greater emphasis.

Alternative D would expand the boundary of Stillwater NWR to include all of Stillwater WMA (except the Indian Lakes area) and Fallon NWR, as well as additional riparian and dune habitat. This alternative would focus on restoring natural hydrologic patterns and other ecological processes. Protection and restoration of riparian habitat would receive enhanced emphasis, and livestock grazing and muskrat trapping would not be used in the habitat management program and would be prohibited. Public use management would focus on providing opportunities for wildlife observation and environmental education, and hunting opportunities would diminish.

Alternative E (the Service preferred Alternative) proposes that the revised boundary of Stillwater NWR exclude the western portions of the Stillwater WMA and the northern portions of Fallon NWR. In the Stillwater WMA this would be accomplished by recommending that Congress withdraw certain project lands giving FWS primary jurisdiction. To include the southern portion of Fallon NWR, The FWS would recommend that Congress revoke the E.O. that gave Bureau of Reclamation primary jurisdiction over portions of Fallon NWR and withdraw those lands giving FWS primary jurisdiction.

Major habitats added to Stillwater NWR would include the lower Carson River and its delta marsh, the sand dunes along the southern edge of the Carson Sink, and the stabilized dunes and salt desert shrub habitat between the Carson River and Stillwater Marsh. In addition to lands currently in Stillwater WMA and Fallon NWR, the boundary would expand to include six sections of land along the lower Carson River and 26 sections north of the existing Stillwater NWR. Although the size of Stillwater NWR would increase under this alternative, the acreage of Federal lands managed primarily for wildlife in the Lahontan Valley would decline by about 25,517 acres. The most important lands with respect to refuge purposes and wetlands protection would be retained. Under this proposal, the approved boundary of Stillwater NWR would be about 172,254 acres, of which about 137,504 acres would be Federal. The acreage of non-Federal inholdings within the boundaries of Federal wildlife areas in the Lahontan Valley would decline by about 40 percent.

This alternative would attempt to approximate natural biological diversity, including breeding habitat for waterbirds, but would also emphasize adaptive management to refine broad management strategies to meet the needs of key wetland dependent wildlife guilds and to provide additional fall and winter habitat for migratory waterbirds. Livestock grazing would have limited application in the habitat management program, and muskrat trapping would primarily be undertaken to prevent damage to the water management infrastructure. Waterfowl hunting would continue to be an integral part of the visitor services program under Alternative E, but a more balanced approach to managing other wildlife dependent recreational activities including environmental education and interpretation, and wildlife observation and photography, would receive considerably greater emphasis.

Dated: May 23, 2002.
Steve Thompson,
Manager, California/Nevada Operations Office, Sacramento, California.

[FR Doc. 02-13631 Filed 5-30-02; 8:45 am]

BILLING CODE 4310-55-P